NATIONAL AERONAUTICS AND SPACE ADMINISTRATION

[Notice 04-073]

Notice of Prospective Patent License

AGENCY: National Aeronautics and Space Administration.

ACTION: Notice of prospective patent license.

SUMMARY: NASA hereby gives notice that the Spartan Light Metal Products, L.L.C., of St. Louis, Missouri, has applied for a partially exclusive license to practice the inventions entitled “Aluminum Alloy And Article Cast Therefrom,” U.S. Patent No. 6,592,687, and “Process For Producing A Cast Article From A Hypereutectic Aluminum-Silicon Alloy,” U.S. Patent No. 6,669,792, and assigned to the United States of America as represented by the respective Administrator of the National Aeronautics and Space Administration. Written objections to the prospective grant of a license should be sent to Mr. James J. McGroary, Chief Patent Counsel/LS01, Marshall Space Flight Center, Huntsville, AL 35812. NASA has not yet made a determination to grant the requested license and may deny the requested license even if no objections are submitted within the comment period.

DATES: Responses to this notice must be received by June 22, 2004.

FOR FURTHER INFORMATION CONTACT: Sammy A. Nabors, Technology Transfer Department/CD30, Marshall Space Flight Center, Huntsville, AL 35812, (256) 544-5226.

Dated: May 27, 2004.
Keith T. Sefton,
Chief of Staff, Office of the General Counsel.

[FR Doc. 04-12720 Filed 6-4-04; 8:45 am]

BILLING CODE 7510-01-P